DEPARTMENT OF LABOR

Employment and Training Administration

[TA-W-57,278]

Meyersdale Manufacturing Co., Division of Elbeco, Inc., Meyersdale, PA; Notice of Termination of Investigation

Pursuant to Section 221 of the Trade Act of 1974, as amended, an investigation was initiated on June 1, 2005, in response to a worker petition filed by UNITE (Mid-Atlantic Regional Joint Board) on behalf of workers at Meyersdale Manufacturing Co., division of Elbeco, Inc., Meyersdale, Pennsylvania.

The petitioner has requested that the petition be withdrawn. Consequently, the investigation has been terminated.

Signed at Washington, DC, this 8th day of June, 2005.
Elliott S. Kushner,
Certifying Officer, Division of Trade Adjustment Assistance.

[FR Doc. E5-3237 Filed 6-21-05; 8:45 am]

BILLING CODE 4510-30-P